DEPARTMENT OF COMMERCE

International Trade Administration

University of California, Davis, et al.; Notice of Decision on Applications for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5 p.m. in Room 3720, U.S. Department of Commerce, 14th and Constitution Ave. NW., Washington, DC.

Docket Number: 11-072. Applicant: University of California, Davis, NEAT ORU, One Shields Avenue Davis, CA 95616. Instrument: Alexsys 1000 Calorimeter. Manufacturer: Setaram Instrumentation, France. Intended Use: See notice at 77 FR 5768, February 6, 2012. Comments: None received. Decision: Approved. We know of no instruments of equivalent scientific value to the foreign instruments described below, for such purposes as this is intended to be used, that was being manufactured in the United States at the time of order. Reasons: This instrument is unique in that it combines the sensitivity, long life, and reproducibility of thermopile sensors with a large internal working volume capable of containing the molten oxide solvents used for calorimetry and operating in the range 700-1000 degrees Celsius where such solvents are molten. Conventional differential scanning calorimeters, made by other companies, are completely different in design and do not feature the large sample volume surrounded by a sensitive detector that is essential for solution calorimetry.

Docket Number: 12-001. Applicant: The Regents of the University of California, Lawrence Berkeley National Laboratory, 1 Cyclotron Road M/S 71R0259, Berkeley, CA 94720. Instrument: Berkeley Lab Laser Accelerator “BELLA” 1.3 petawatt laser system. Manufacturer: Thales Optronique S.A., France. Intended Use: See notice at 77 FR 5768, February 6, 2012. Comments: None received. Decision: Approved. We know of no instruments of equivalent scientific value to the foreign instruments described below, for such purposes as this is intended to be used, that was being manufactured in the United States at the time of order. Reasons: Requirements of this system include that it is characterized by a short pulse, high intensity, Ti:sapphire laser able to demonstrate a 10 GeV laser-plasma accelerator module with a pulse energy of 40 Joules on target and a pulse duration of <40 femtoseconds at optimum compression with a repetition rate of 1HZ ± 5%.

Dated: March 5, 2012.
Gregory W. Campbell,
Director, Subsidies Enforcement Office, Import Administration.

[FR Doc. 2012-5917 Filed 3-9-12; 8:45 am]

BILLING CODE 3510-DS-P